DEPARTMENT OF HEALTH AND HUMAN SERVICES

Substance Abuse and Mental Health Services Administration

Fiscal Year (FY) 2001 Funding Opportunities

AGENCY: Substance Abuse and Mental Health Services Administration (SAMHSA) HHS.

ACTION: Notice of funding availability, revision of program announcement and notice of special racial and ethnic minority initiative.

SUMMARY: The Substance Abuse and Mental Health Services Administration's Center for Mental Health Services in partnership with the Center for Substance Abuse Treatment and the Center for Substance Abuse Prevention announces the availability of FY 2001 funds for the following activity. This activity has two parts. The first action is to announce a technical revision of the standing program announcement for the Community Action Grants Program. The second activity is to announce a Notification of Funding Availability for a Special Racial and Ethnic Priority Initiative under the Community Action Program.

This notice is not a complete description of the activity; potential applicants must obtain a copy of the Program Announcement, including Part I, Community Action Grants for Service Systems Change and a copy of the Special Racial and Ethnic Minority Initiative; and Part II, General Policies and Procedures Applicable to all SAMHSA Guidance for Applicants for Discretionary Grants and Cooperative Agreements, before preparing and submitting an application.

Activity | Application deadline | Est. funds FY 2001 | Est. no. of awards | Project period
Re-issuance of Community Action Grant & Special Racial and Ethnic Minority Initiative | May 10, 2001 & Sept. 10, 2001 | $5.1 million | 34-51 | 1 year.
| May 10, 2001 | $1.2 million | 8-12 | 1 year.

The actual amount available for the award may vary, depending on the unanticipated program requirements and the number and quality of applications received. FY 2001 funds for the activity discussed in this announcement were appropriated by the Congress under Public Law No. 106-310. SAMHSA's policies and procedures for peer review and Advisory Council review of grant and cooperative agreement applications were published in the Federal Register (Vol. 58, No. 126) on July 2, 1993.

General Instructions

Applicants must use application form PHS 5161-1 (Rev. 7/00). The application kit contains the two-part application materials (complete programmatic guidance and instructions for preparing and submitting applications), the PHS 5161-1 which includes Standard Form 424 (Face Page), and other documentation and forms. Application kits may be obtained from: National Mental Health Services Knowledge Exchange, Network (KEN), P.O. Box 42490, Washington, DC 20015, Telephone: 1-800-789-2647.

The PHS 5161-1 application form and the full text of the activity are also available electronically via SAMHSA's World Wide Web Home Page: http://www.samhsa.gov.

When requesting an application kit, the applicant must specify the particular activity for which detailed information is desired. All information necessary to apply, including where to submit applications and application deadline instructions, are included in the application kit.

Purpose: The Substance Abuse and Mental Health Services Administration's (SAMHSA) Center for Mental Health Services (CMHS) in cooperation with the Center for Substance Abuse Treatment (CSAT) and the Center for Substance Abuse Prevention announce a technical revision to the Community Action Grant Program Announcement. This revision corrects typographical errors and includes information on the availability of Fiscal Year 2001 funds for these grants.

The grant program supports the adoption and implementation of exemplary practices related to the delivery and organization of services for children with serious emotional disturbances or adults with serious mental illness. The target population may also have co-occurring disorders, such as substance abuse or other mental, emotional, or behavioral disorders. This program is made up of two types of grants: Phase I grants focusing on consensus building and decision support, and Phase II grants focusing on implementation support.

In addition, an addendum is announced for a Racial and Ethnic Minority Priority Initiative. This addendum announces the availability of funds to support the adoption and implementation of exemplary practices related to the delivery and organization of services to racial and ethnic minority persons with serious emotional and substance abuse problems. Racial and ethnic minorities are African American, Asian American/Pacific Islander, Hispanic American, and American Indians/Alaskan natives adults and adolescents who are mentally ill and/or “at risk” for alcohol and illicit drug problems or are seriously chemically dependent. The review committee will determine whether the target population as identified in the application is responsive to the program announcement. If an application is determined to be unacceptable under the requirement of this addendum but addressed mental illness with or without co-occurring disorders, it will be reviewed under the general program announcement.

Eligibility: For the Community Action Grant Program, eligibility for Phase I is limited to units of State or local governments, tribal governments and organizations, and domestic private nonprofit organizations such as community-based organizations, faith-based organizations, provider and consumer groups, universities, colleges, and health care organizations. SAMHSA encourages applications from consumer and family organizations. For Phase II, applications are restricted to past or current Phase I grantees. To be eligible, Phase II applicants must demonstrate that they have met Phase I requirements and are ready to implement their exemplary practices.

For the Racial and Ethnic Minority Priority Initiative, eligibility is restricted to units of State and local governments, including tribal governments, and domestic private nonprofit organizations such as community-based organizations, faith-based organizations, universities, colleges, and hospitals. SAMHSA encourages applications from consumer and family organizations.

Availability of Funds: For the Community Action Grant Basic Program, approximately $5.1 million will be available for 24-36 Phase I awards and 10-15 Phase II awards. The average award will be approximately $100,000 per year in total costs (direct and indirect), with awards ranging from $50,000 to $150,000 under the general announcement. For the addendum, approximately $1.2 million will be available for 8-12 awards. The award amounts are expected to range from $50,000 to $150,000 in total costs (direct and indirect).

Period of Support: Support may be requested for a period of up to one year.

Criteria for Review and Funding—General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criteria. Additional award criteria specific to the programmatic activity may be included in the application guidance materials.

Catalog of Federal Domestic Assistance Number: 93.230.

Program Contact: For questions concerning program issues, contact: Santo J. (Buddy) Ruiz, Program Director, Community Support Programs Branch, Center for Mental Health Services, Substance Abuse and Mental Health Services Administration, 5600 Fishers Lane, Room 11C-22, Rockville, MD 20857, (301) 443-3653.

For questions regarding grants management issues, contact: Steve Hudak, Division of Grants Management, Substance Abuse and Mental Health Services Administration, 5600 Fishers Lane, Room 13-103, Rockville, Maryland 20857, (301) 443-4456.

Public Health System Reporting Requirements: The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2001 activity is subject to the Public Health System Reporting Requirements.

PHS Non-use of Tobacco Policy Statement: The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372: Applications submitted in response to the FY 2001 activity listed above are subject to the intergovernmental review requirements of Executive Order 12372, as implemented through DHHS regulations at 45 CFR Part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: March 2, 2001.
Richard Kopanda,
Executive Officer, SAMHSA.

[FR Doc. 01-5685 Filed 3-7-01; 8:45 am]

BILLING CODE 4162-20-U